DEPARTMENT OF STATE

[Public Notice 3638]

Culturally Significant Objects Imported for Exhibition Determinations: “Empire of the Sultans: Ottoman Art from the Khalili Collection”

DEPARTMENT: Department of State.

ACTION: Notice; change.

SUMMARY: On December 6, 1999, Notice was published on page 68190 of the Federal Register (Volume 64, Number 233) by the Department of State pursuant to Pub. L. 89-259 relating to the exhibit “Empire of the Sultans: Ottoman Art from the Khalili Collection.” The referenced Notice is changed as follows. After “July 20, 2003,” insert the following additional venues: “and at the North Carolina Museum of Art, Raleigh, North Carolina from on or about May 18, 2002, to on or about July 28, 2002; the Museum of Art, Brigham Young University, Provo, Utah from on or about August 17, 2002, to on or about January 26, 2003; the Oklahoma City Art Museum, Oklahoma City, Oklahoma from on or about February 15, 2003 to on or about April 27, 2003; the Museum of Arts and Sciences, Macon, Georgia from on or about August 30, 2003 to on or about November 9, 2003; the Frick Art and Historical Center, Pittsburgh, Pennsylvania from on or about November 29, 2003 to on or about February 8, 2004 is in the national interest.”

FOR FURTHER INFORMATION CONTACT: For further information, including a list of exhibit objects, contact Carol Epstein, Attorney-Adviser, Office of the Legal Adviser, U.S. Department of State (telephone: 202/619-6981. The address is U.S. Department of State, SA-44; 301 4th Street, SW., Room 700, Washington, DC 20547-0001.

Dated: April 4, 2001.
Helena Kane Finn,
Acting Assistant Secretary for Educational and Cultural Affairs, United States Department of State.

[FR Doc. 01-8938 Filed 4-10-01; 8:45 am]

BILLING CODE 4710-08-P